DEPARTMENT OF THE TREASURY

Submission for OMB Review; Comment Request

October 11, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW, Washington, DC 20220.

DATES: Written comments should be received on or before November 19, 2001 to be assured of consideration.

Financial Crimes Enforcement Network

OMB Number: 1506-0013.

Form Number: TD F 90-22.55.

Type of Review: Extension.

Title: Registration of Money Services Businesses.

Description: 31 U.S.C. 5330 (and implementing regulations under 31 CFR 103.41(a),(b), and (d)) require money services businesses (“MSBs”) to register with the Department of the Treasury and maintain a current list of agents. The registration and agent list requirements will enable Treasury to locate MSBs, educate them about their reporting and recordkeeping requirements of the Bank Secrecy Act, and ensure that MSBs comply with those requirements.

Respondents: Business or other for-profit.

Estimated Number of Respondents/Recordkeepers: 8,500.

Estimated Burden Hours Per Respondent/Recordkeeping: 45 minutes.

Frequency of Response: Biennially.

Estimated Total Reporting/Recordkeeping Burden: 1,106,374 hours.

Clearance Officer: Lois K. Holland (202) 622-1563, Departmental Offices, Room 2110, 1425 New York Avenue, NW., Washington, DC 20220.

OMB Reviewer: Alexander T. Hunt, (202) 395-7860, Office of Management and Budget, Room 10202, New Executive Office Building, Washington, DC 20503.

Lois K. Holland,
Departmental Reports, Management Officer.

[FR Doc. 01-26261 Filed 10-17-01; 8:45 am]

BILLING CODE 4810-31-P